DEPARTMENT OF THE INTERIOR

Fish and Wildlife Service

[FWS-R8-R-2009-N222; 80230-1265-0000-S3]

Desert National Wildlife Refuge Complex, Clark, Lincoln, and Nye Counties, NV

AGENCY: Fish and Wildlife Service, Interior.

ACTION: Notice of availability: record of decision.

SUMMARY: We, the U.S. Fish and Wildlife Service (Service), announce the availability of the record of decision (ROD) for the final Comprehensive Conservation Plan/Environmental Impact Statement (CCP/EIS) for the Desert National Wildlife Refuge (NWR) Complex. We completed a thorough analysis of the environmental, social, and economic considerations and presented it in our final CCP/EIS, which we released to the public on August 19, 2009. The ROD documents our decision to adopt and implement the final CCP/EIS Alternative C, for Ash Meadows, Desert, and Moapa Valley NWRs and Alternative D for Pahranagat NWR.

DATES: The Regional Director, Pacific Southwest Region, U.S. Fish and Wildlife Service, signed the ROD on September 24, 2009.

ADDRESSES: You may view or obtain copies of the ROD and Final CCP/EIS by any of the following methods:

Agency Web site: Download a copy of the documents at http://www.fws.gov/desertcomplex/ccp.htm.

Electronic mail: fw8plancomments@fws.gov. Include “Desert NWRC ROD” in the subject line of the message.

Mail: Mark Pelz, Chief, Refuge Conservation Planning, Pacific Southwest Region, U.S. Fish and Wildlife Service, 2800 Cottage Way, W-1832, Sacramento, CA 95825-1846.

In person viewing or pickup: Copies of the ROD may be viewed at the Desert National Wildlife Refuge Complex, 4701 North Torrey Pines, Las Vegas, NV 89130.

FOR FURTHER INFORMATION CONTACT: Cynthia Martinez, Refuge Complex Manager, U.S. Fish and Wildlife Service, 4701 North Torrey Pines, Las Vegas, NV 89130, phone (702) 515-5450 or Mark Pelz, Chief, Refuge Planning, 2800 Cottage Way, W-1832, Sacramento, CA, 95825; (916) 414-6504 (phone); mark_pelz@fws.gov (e-mail).

SUPPLEMENTARY INFORMATION:

Introduction

With this notice, we finalize the CCP process for the Desert NWR Complex (Ash Meadows, Desert, Moapa Valley and Pahranagat NWRs). The CCP will guide us in managing and administering the four wildlife refuges for the next 15 years. We started this process in a Federal Register notice (67 FR 54229, August 21, 2002). We released the draft CCP/EIS to the public, announcing and requesting comments in a notice of availability in the Federal Register (73 FR 39979) on July 11, 2008. The public review period lasted 60 days. We announced the availability of the final CCP/EIS in the Federal Register (74 FR 41928) on August 19, 2009.

Ash Meadows NWR was established in 1984 under the authority of the Endangered Species Act of 1973, as amended. It comprises 23,000 acres of spring-fed wetlands, mesquite bosques, and desert uplands that provide habitat for at least 24 plants and animal species found nowhere else in the world. The Wildlife Refuge is located 90 miles northwest of Las Vegas and 30 miles west of Pahrump.

Desert NWR was originally established in 1936 by Executive Order No. 7373 and subsequently modified by Public Land Order 4079, for the protection, enhancement and maintenance of wildlife resources including bighorn sheep. Located just north of Las Vegas, Nevada, the 1.6 million acre Wildlife Refuge is the largest in the lower 48 States.

The Moapa Valley NWR was established in 1979 under the authority of the Endangered Species Act of 1973, as amended, to secure habitat for the endangered Moapa dace. The Wildlife Refuge is located on 116 acres in northeastern Clark County. Due to its small size, fragile habitats, on-going habitat restoration work, and unsafe structures, the Wildlife Refuge is currently closed to the general public.

The Pahranagat NWR was established in 1963, under the authority of the Migratory Bird Conservation Act, as amended, to protect habitat for migrating birds in the Pahranagat Valley. The 5,382 acre Wildlife Refuge consists of marshes, meadows, lakes, and upland desert habitat. It provides nesting, resting, and feeding areas for waterfowl, shorebirds, wading birds, and song birds including the endangered southwestern willow flycatcher.

In accordance with National Environmental Policy Act (NEPA) (40 CFR 1506.6(b)) requirements, this notice announces the availability of the ROD for the final CCP/EIS for the Desert NWR Complex. We completed a thorough analysis of the environmental, social, and economic considerations in the final CCP/EIS. The ROD documents our selection of Alternative C, for Ash Meadows, Desert, and Moapa Valley NWRs and Alternative D for Pahranagat NWR.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

CCP Alternatives and Selected Alternative

Both our draft and final CCP/EIS identified several major issues. To address those issues, we developed and evaluated three alternatives for managing Ash Meadows and Moapa Valley NWRs and four alternatives for managing Desert and Pahranagat NWRs. These alternatives are outlined in the final CCP/EIS Summary document available at http://www.fws.gov/desertcomplex/ccp.htm.

Our decision is to adopt Alternative C for Ash Meadows, Desert, and Moapa Valley NWRs and Alternative D for Pahranagat NWR, as described in the ROD. The ROD details the basis of our decision, which we made after considering the following: the impacts identified in Chapter 4 of the draft and final CCP/EIS; the results of public and other agency comments; how well the alternative addresses the relevant issues, concerns, and opportunities identified during the planning process; and other relevant factors, including fulfilling the purposes for which the wildlife refuges were established, contributing to the mission and goals of the NWRS, and statutory and regulatory guidance. We have determined that Alternative C for Ash Meadows, Desert, and Moapa Valley NWRs and Alternative D for Pahranagat NWR include the suite of activities that best achieve the stated purpose and need for action and the goals for each wildlife refuge presented in the final CCP/EIS Chapter 1. These alternatives were selected for implementation because they provide the greatest number of opportunities for the wildlife refuges to make a significant contribution to the conservation of fish, wildlife, and habitat needs in the region, balanced with opportunities for high-quality wildlife-dependant recreation.

Dated: January 26, 2010.
Ren Lohofener,
Regional Director, Pacific Southwest Region, Sacramento, California.

[FR Doc. 2010-2046 Filed 1-29-10; 8:45 am]

BILLING CODE 4310-55-P